GENERAL SERVICES ADMINISTRATION

Office of Small Business Utilization; Small Business Advisory Committee; Notification of a Public Meeting of the Small Business Advisory Committee

AGENCY: Office of Small Business Utilization, GSA.

ACTION: Notice.

SUMMARY: The General Services Administration (GSA) is announcing a public meeting of the GSA Small Business Advisory Committee (the Committee). The purpose of this meeting is to develop the topics generated during the previous meetings; to receive briefings from small business topical experts, and to hear from interested members of the public on proposals to improve GSA's small business contracting performance.

DATES: The meeting will take place June 8, 2009. The meeting will begin at 1 p.m. and conclude no later than 5 p.m. that day. The Committee will accept oral public comments at this meeting and has reserved a total of thirty minutes for this purpose. Members of the public wishing to reserve speaking time must contact Lucy Jenkins in writing at: sbac@gsa.gov or by fax at (202) 501-2590, no later than one week prior to the meeting.

ADDRESSES: The meeting location is Henry N. Gonzalez Convention Center, San Antonio, TX, Room 006D.

FOR FURTHER INFORMATION CONTACT: Lucy Jenkins, Room 6033, GSA Building, 1800 F Street, NW., Washington, DC 20405, (202) 501-1445 or e-mail at sbac@gsa.gov.

SUPPLEMENTARY INFORMATION: This notice is published in accordance with the provisions of the Federal Advisory Committee Act (FACA) (Pub. L. 92-463). The purpose of this meeting is to develop the topics generated during the previous meetings; to receive briefings from small business topical experts, and to hear from interested members of the public on proposals to improve GSA's small business contracting performance.

Topics for this meeting will include recommendations from the Service Disabled Veteran Owned Small Business subcommittee. Other topics to be discussed may include, but are not limited to, topics from previous meetings. The agenda will be published online at http://www.gsa.gov/sbac at least 7 days prior to the meeting. Information and agendas from previous meetings can be found on line at http://www.gsa.gov/sbac.

Dated: May 7, 2009.
Mary Parks,
Acting Associate Administrator, Office of Small Business Utilization, General Services Administration.

[FR Doc. E9-12363 Filed 5-27-09; 8:45 am]

BILLING CODE 6820-34-P